ENVIRONMENTAL PROTECTION AGENCY

40 CFR Part 52

[EPA-R03-OAR-2015-0166; FRL-9929-39-Region 3]

Approval and Promulgation of Air Quality Implementation Plans; Pennsylvania; Adoption of Control Technique Guidelines for Offset Lithographic Printing and Letterpress Printing; Flexible Package Printing; and Adhesives, Sealants, Primers, and Solvents

AGENCY: Environmental Protection Agency (EPA).

ACTION: Final rule.

SUMMARY: The Environmental Protection Agency (EPA) is approving a State Implementation Plan (SIP) revision submitted by the Commonwealth of Pennsylvania. The revisions pertain to control of volatile organic compound (VOC) emissions from offset lithographic printing and letterpress printing, flexible package printing, and adhesives, sealants, primers, and solvents. These revisions also meet the requirement to adopt Reasonably Available Control Technology (RACT) for sources covered by EPA's Control Technique Guideline (CTG) recommendations for the following categories: Offset lithographic printing and letterpress printing, flexible package printing, and adhesives, sealants, primers, and solvents. EPA is approving these revisions in accordance with the requirements of the Clean Air Act (CAA).

DATES: This final rule is effective on July 27, 2015.

ADDRESSES: EPA has established a docket for this action under Docket ID Number EPA-R03-OAR-2015-0166. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Ellen Schmitt, (215) 814-5787, or by email at schmitt.ellen@epa.gov.

SUPPLEMENTARY INFORMATION:

I. Background

On August 27, 2014, the Commonwealth of Pennsylvania through the Pennsylvania Department of Environmental Protection (PADEP) submitted a SIP revision to EPA in order to add regulations to the Pennsylvania SIP which essentially adopt EPA CTGs for offset lithographic and letterpress printing, flexible package printing, and adhesives, sealants, primers, and solvents. Through this SIP submittal, PADEP asserts that the Commonwealth meets the requirement to adopt RACT for sources covered by EPA's CTG recommendations for the above mentioned categories.

Section 172(c)(1) of the CAA provides that SIPs for nonattainment areas must include reasonably available control measures (RACM), including RACT, for sources of emissions. EPA defines RACT as “the lowest emission limitation that a particular source is capable of meeting by the application of control technology that is reasonably available considering technological and economic feasibility.” 44 FR 53761 (September 17, 1979).

CTGs are documents issued by EPA that provide state and local air pollution control authorities information that should assist them in determining RACT for VOC emissions from various sources. The recommendations in the CTG are based upon available data and information and may not apply to a particular situation based upon the circumstances. States can adopt regulations to implement the recommendations contained within the CTG, or they can adopt alternative approaches. Regardless of whether a state chooses to implement the recommendations contained within the CTGs through state rules, or to issue state rules that adopt different approaches for RACT for VOCs, states must submit their RACT rules to EPA for review and approval as part of the SIP process.

II. Summary of SIP Revision

The Commonwealth of Pennsylvania submitted a SIP revision to EPA on August 27, 2014 in order to add and amend regulations in the Pennsylvania SIP related to EPA CTGs for offset lithographic and letterpress printing, flexible package printing, and adhesives, sealants, primers, and solvents. This SIP submittal includes revisions to the following regulations: 25 Pa Code 121.1, 129.51 and 129.67 (relating to definitions; general; and graphic arts systems), as well as 25 Pa Code 129.77 and 130.703 (relating to control of emissions from the use or application of adhesives, sealants, primers, and solvents; and exemptions and exceptions). This SIP submittal also includes the addition of regulations 25 Pa Code 129.67a and 129.67b (relating to control of VOC emissions from flexible packaging printing presses and control of VOC emissions from offset lithographic printing presses and letterpress printing presses).

On April 13, 2015 (80 FR 19591), EPA published a notice of proposed rulemaking (NPR) for the Commonwealth of Pennsylvania, proposing approval of revisions pertaining to control of VOC emissions from offset lithographic printing and letterpress printing, flexible package printing, and adhesives, sealants, primers, and solvents.

EPA's review of the new and revised regulations submitted by PADEP indicates that the submitted revisions meet the requirements to adopt RACT for sources located in Pennsylvania covered by EPA's CTG recommendations for control of VOC emissions for the following categories: Offset lithographic printing and letterpress printing, flexible package printing, and adhesives, sealants, primers, and solvents. More detailed information on these provisions as well as a detailed summary of EPA's review and rationale for proposing to approve this SIP revision can be found in the NPR and the Technical Support Document (TSD) for this action which is available on line at www.regulations.gov, Docket number EPA-R03-OAR-2015-0166. EPA received no comments on the NPR.

III. Final Action

EPA is taking final action approving the Commonwealth of Pennsylvania SIP revision submitted on August 27, 2014, which consists of amendments to meet the requirement to adopt RACT for sources covered by EPA's CTG standards for the following categories: Offset lithographic printing and letterpress printing, flexible package printing, and adhesives, sealants, primers, and solvents. EPA is taking this final action because the SIP revision meets CAA requirements for SIPs in sections 110, 172 and 182.

IV. Incorporation by Reference

In this rule, the EPA is finalizing regulatory text that includes incorporation by reference. In accordance with requirements of 1 CFR 51.5, the EPA is finalizing the incorporation by reference of the PADEP rules regarding control of VOC emissions from offset lithographic printing, letterpress printing, flexible package printing, and adhesives, sealants, primers, and solvents as described in section III of this final action. The EPA has made, and will continue to make, these documents generally available electronically through www.regulations.gov and/or in hard copy at the appropriate EPA office (see the ADDRESSES section of this preamble for more information).

V. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by August 24, 2015. Filing a petition for reconsideration by the Administrator of this final rule does not affect the finality of this action for the purposes of judicial review nor does it extend the time within which a petition for judicial review may be filed, and shall not postpone the effectiveness of such rule or action. This action to approve revisions to the Pennsylvania SIP pertaining to control of VOC emissions from offset lithographic printing and letterpress printing, flexible package printing, and adhesives, sealants, primers, and solvents may not be challenged later in proceedings to enforce its requirements. (See section 307(b)(2).)

List of Subjects in 40 CFR Part 52

Environmental protection, Air pollution control, Incorporation by reference, Ozone, Reporting and recordkeeping requirements, Volatile organic compounds.

Dated: June 10, 2015.
William C. Early,
Acting, Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (c)(1) is amended by:

a. Revising entries for Title 25, Sections 121.1, 129.51, and 129.67.

b. Adding entries for Title 25, Sections 129.67a and 129.67b in numerical order.

c. Revising entries for Title 25, Sections 129.77 and 130.703.

The revisions and additions read as follows:

§ 52.2020 Identification of plan.

* * * * *

(c) * * *

(1) * * *

State citation | Title/subject | State effective date | EPA approval date | Additional explanation/§ 52.2063 citation
Title 25— Environmental Protection Article III—Air Resources
* * * * * * *
Section 121.1 | Definitions | 6/28/2014 | 6/25/2015, [Insert Federal Register citation] | Adds and amends definitions.
* * * * * * *
129.51 | General | 6/28/2014 | 6/25/2015, [Insert Federal Register citation] | Amends section 129.51.
* * * * * * *
129.67 | Graphic arts systems | 6/28/2014 | 6/25/2015, [Insert Federal Register citation] | Amends section 129.67.
129.67a | Control of VOC emissions from flexible package printing presses | 6/28/2014 | 6/25/2015, [Insert Federal Register citation] | Adds section 129.67a.
129.67b | Control of VOC emissions from offset lithographic printing presses and letterpress printing presses | 6/28/2014 | 6/25/2015, [Insert Federal Register citation] | Adds section 129.67b.
* * * * * * *
129.77 | Control of emissions from the use or application of adhesives, sealants, primers and solvents | 6/28/2014 | 6/25/2015, [Insert Federal Register citation] | Amends section 129.77.
* * * * * * *
130.703 | Exemptions and exceptions | 6/28/2014 | 6/25/2015, [Insert Federal Register citation] | Amends section 130.703.
* * * * * * *

* * * * *

[FR Doc. 2015-15318 Filed 6-24-15; 8:45 am]

BILLING CODE 6560-50-P